FEDERAL COMMUNICATIONS COMMISSION

47 CFR Part 73

[DA 01-1862; MM Docket No. 01-179, RM-10199; MM Docket No. 01-180, RM-10200; MM Docket No. 01-181, RM-10201; MM Docket No. 01-182, RM-10202]

Radio Broadcasting Services; Port St. Joe, FL; Holdenville, OK; Wapanucka, OK; and Clarksville, TX

AGENCY: Federal Communications Commission.

ACTION: Proposed rule.

SUMMARY: This document proposes four allotments. The Commission requests comments on a petition filed by Cecil P. Staton, proposing the allotment of Channel 242A at Port St. Joe, Florida, as the community's second local aural transmission service. Channel 242A can be allotted to Port St. Joe in compliance with the Commission's minimum distance separation requirements with a site restriction of 2.1 km (1.3 miles) southeast of Port St. Joe. The coordinates for Channel 242A at Port St. Joe are 29-48-00 North Latitude and 85-17-03 West Longitude. The Commission requests comment on a petition filed by Katherine Pyeatt proposing the allotment of Channel 265A at Holdensville, Oklahoma, as the community's first local competing FM transmission service. Channel 265A can be allotted to Holdenville in compliance with the Commission's minimum distance separation requirements with a site restriction of 10.6 km (6.6 miles) west of Holdenville. The coordinates for Channel 265A at Holdenville are 35-04-53 North Latitude and 96-31-00 West Longitude.

The Commission further requests comment on a petition filed by Katherine Pyeatt proposing the allotment of Channel 298A at Wapanucka, Oklahoma, as the community's first local aural transmission service. Channel 298A can be allotted to Wapanucka in compliance with the Commission's minimum distance separation requirements with a site restriction of 2.9 km (1.8 miles) west of Wapanucka. The coordinates for Channel 298A at Wapanucka are 34-21-54 North Latitude and 96-23-47 West Longitude. The Commission further requests comment on a petition filed by Katherine Pyeatt proposing the allotment of Channel 294A at Clarksville, Texas, as the community's first local competing FM transmission service. Channel 294A can be allotted to Clarksville at center city coordinates in compliance with the Commission's minimum distance separation requirements. The coordinates for Channel 294A at Clarksville are 33-36-36 North Latitude and 95-03-06 West Longitude.

DATES: Comments must be filed on or before September 24, 2001, and reply comments on or before October 9, 2001.

ADDRESSES: Federal Communications Commission, Washington, DC 20554. In addition to filing comments with the FCC, interested parties should serve the petitioner, his counsel, or consultant, as follows: Cecil P. Staton, 6316 Peake Road, Macon, GA 31210; and Katherine Pyeatt, 6655 Aintree Circle, Dallas, TX 75214.

FOR FURTHER INFORMATION CONTACT: Deborah A. Dupont, Mass Media Bureau (202) 418-7072.

SUPPLEMENTARY INFORMATION: This is a synopsis of the Commission's Notice of Proposed Rule Making, MM Docket Nos. 01-179, 01-180, 01-181, and 01-182, adopted July 25, 2001, and released August 3, 2001. The full text of this Commission decision is available for inspection and copying during normal business hours in the FCC Reference Information Center (Room CY-A257), 445 12th Street, S.W., Washington, D.C. The complete text of this decision may also be purchased from the Commission's copy contractor, International Transcription Service, Inc., (202) 857-3800, 1231 20th Street, N.W., Washington, D.C. 20036.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. §§ 154, 303, 334 and 336.

§ 73.202 [Amended]

2. Section 73.202(b), the Table of FM Allotments under Florida, is amended by adding Channel 242A at Port St. Joe.

3. Section 73.202(b), the Table of FM Allotments under Oklahoma, is amended by adding Channel 265A at Holdenville and adding Wapanucka, Channel 298A.

4. Section 73.202(b), the Table of FM Allotments under Texas, is amended by adding Channel 294A at Clarksville.

Federal Communications Commission.
John A. Karousos,
Chief, Allocations Branch, Policy and Rules Division, Mass Media Bureau.

[FR Doc. 01-21408 Filed 8-23-01; 8:45 am]

BILLING CODE 6712-01-P